NATIONAL CREDIT UNION ADMINISTRATION

Submission for OMB Review; Comment Request

Correction

In notice document 2016-18135, appearing on pages 50564-50565 in the Issue of Monday, August 1, 2016, make the following correction:

On page 50564, in the third column, under the heading DATES:, the entry “August 31, 2016” should read “September 30, 2016”.

[FR Doc. C1-2016-18135 Filed 8-4-16; 8:45 am]

BILLING CODE 1505-01-D